DEPARTMENT OF THE INTERIOR

Bureau of Land Management

[CO-200-1770-MA]

Notice of Closure of Public Lands to Motorized Vehicle Travel on Public Lands

AGENCY: Bureau of Land Management; Interior.

ACTION: Notice of closure.

SUMMARY: Notice is hereby given that effective immediately certain public lands in southwestern Huerfano County, Colorado are closed to all types of motorized travel. The purpose of this closure is to prevent the development of unauthorized user-created trails, damage to soils and vegetation, adverse impacts to water quality, and wildlife harassment. Approximately 4,600 acres of public lands are affected by this closure. It should be noted that there is no existing legal motorized public access to these public lands. These lands will remain closed until travel management planning is completed. This closure is made under the authority of 43 CFR 8364.1.

DATES: Effective immediately and remaining in effect unless revised, revoked or amended.

ADDRESSES: Bureau of Land Management, Royal Gorge Field Office, 3170 East Main Street, Cañon City, Colorado 81212; telephone 719-269-8500.

FOR FURTHER INFORMATION CONTACT: For further information contact, Roy L. Masinton, Field Manager, or Leah Quesenberry, Outdoor Recreation Planner, at the above address and phone number.

SUPPLEMENTARY INFORMATION: The public lands affected by this closure are identified as follows:

Huerfano County, Colorado, Sixth Principal Meridian

Southern portion of the Wet Mountain Valley, located approximately 12 miles southwest of Gardner, Colorado, east of County Road 580.

T. 27 S., R. 71 W.

Section 18: Lots 3 and 4, SE¼NW¼, E½SW¼, W½SE¼, SE¼SE¼

Section 19: All

Section 20: SW¼NE¼, W½NW¼, SE¼NW¼, S½

Section 21: S½SW¼

Section 27: W½SW¼

Section 28: N½NE¼, SW¼NE¼, NW¼, S½

Section 29: All

Section 30: All

Section 32: NE¼

Section 33: N½NW¼, S½N½, S½

Section 34: SW¼

T. 27 S., R. 72 W.

Section 13: SE¼SE¼

Section 23: E½SE¼ except those lands lying west of Huerfano County Road 580

Section 24: E½NE¼, SW¼NE¼, SE¼NW¼, S½

Section 25: N½NE¼, SE¼NE¼, NW¼NW¼, S½

Section 26: NE¼NE¼, SE¼

This closure order does not apply to emergency, law enforcement, and Federal or other government vehicles while being used for official or other emergency purposes, or to any other vehicle use that is expressly authorized or otherwise officially approved by BLM. BLM will coordinate with the Colorado Division of Wildlife, United States Forest Service, and Huerfano County to implement this closure. Violation of this order is punishable by imprisonment for up to 12 months and/or a fine as defined in 18 U.S.C. 3571. Notice of this closure order and a detailed map will be posted at the Royal Gorge Field Office.

Roy L. Masinton,
Field Manager.

[FR Doc. 04-25616 Filed 11-17-04; 8:45 am]

BILLING CODE 4310-JB-P